GENERAL SERVICES ADMINISTRATION

Federal Management Regulation (FMR); Notice of GSA Bulletin FMR B-26

AGENCY: Office of Governmentwide Policy, General Services Administration (GSA).

ACTION: Notice of a bulletin.

SUMMARY: This notice announces GSA Bulletin FMR B-26. GSA Bulletin FMR B-26 provides guidance to Federal agencies relative to the accountability and control of Executive agency personal property. This guidance is of a general nature, and intended to steer agencies towards considering controls where reasonable controls may be lacking or non-existent. GSA Bulletin FMR B-26 may be found at http://www.gsa.gov/bulletin.

DATES: The bulletin announced in this notice became effective on May 7, 2010.

FOR FURTHER INFORMATION CONTACT: For clarification of content, contact the General Services Administration, Office of Governmentwide Policy, Office of Travel, Transportation and Asset Management, at (202) 501-1777. Please cite FMR Bulletin B-26.

SUPPLEMENTARY INFORMATION:

A. Background

GSA has the responsibility to provide guidance to agencies on property management accountability systems. This bulletin is the first document issued by GSA's Office of Travel, Transportation, and Asset Management which addresses only this subject. Further guidance on this topic in the form of bulletins or regulations is planned.

Section 524 of Title 40 of the United States Code (40 U.S.C. 524) requires that executive agencies maintain adequate inventory controls and accountability systems for property under their control. Section 121(b)(2) of 40 U.S.C. requires the Administrator of General Services to work with the Comptroller General and other executive agencies to develop accounting systems for Federal property. The term “system” includes information technology components as well as the non-automated processes and procedures used to account for Federal property.

B. Procedures

Bulletins regarding the Federal Management Regulation (FMR) are located on the Internet at http://www.gsa.gov/bulletin as FMR bulletins.

Dated: May 11, 2010.
Becky Rhodes,
Deputy Associate Administrator.

[FR Doc. 2010-12040 Filed 5-19-10; 8:45 am]

BILLING CODE 6820-14-P